DEPARTMENT OF TRANSPORTATION

Federal Aviation Administration

14 CFR Part 39

[Docket No. FAA-2005-22033; Directorate Identifier 2004-NM-218-AD]

RIN 2120-AA64

Airworthiness Directives; Empresa Brasileira de Aeronautica S.A. (EMBRAER) Model EMB-135 Airplanes and Model EMB-145, -145ER, -145MR, -145LR, -145XR, -145MP, and -145EP Airplanes

AGENCY: Federal Aviation Administration (FAA), Department of Transportation (DOT).

ACTION: Notice of proposed rulemaking (NPRM).

SUMMARY: The FAA proposes to supersede an existing airworthiness directive (AD) that applies to certain EMBRAER Model EMB-135 airplanes and Model EMB-145, -145ER, -145MR, -145LR, -145XR, -145MP, and -145EP airplanes. The existing AD currently requires repetitive inspections of the spring cartridges of the elevator gust lock system to determine if the lock washer projection correctly fits the slots in the cartridge flange, and corrective action if necessary. The existing AD also provides for interim optional terminating action for the repetitive inspections for certain airplanes. This proposed AD would retain the requirements of the existing AD, and provide for final terminating action for all affected airplanes. This proposed AD is prompted by reports of an improperly fitting lock washer causing the clevis of the spring cartridge in the electromechanical elevator gust lock system to become unscrewed. We are proposing this AD to prevent unscrewing of the spring cartridge clevis from jamming the elevator, which could lead to reduced controllability of the airplane.

DATES: We must receive comments on this proposed AD by September 7, 2005.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Empresa Brasileira de Aeronautica S.A. (EMBRAER), P.O. Box 343—CEP 12.225, Sao Jose dos Campos—SP, Brazil.

You can examine the contents of this AD docket on the Internet at http://dms.dot.gov, or in person at the Docket Management Facility, U.S. Department of Transportation, 400 Seventh Street SW., room PL-401, on the plaza level of the Nassif Building, Washington, DC. This docket number is FAA-2005-22033; the directorate identifier for this docket is 2004-NM-218-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

We invite you to submit any relevant written data, views, or arguments regarding this proposed AD. Send your comments to an address listed under ADDRESSES. Include “Docket No. FAA-2005-22033; Directorate Identifier 2004-NM-218-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On April 21, 2003, we issued AD 2003-09-03, amendment 39-13132 (68 FR 22585, dated April 29, 2003), for certain EMBRAER Model EMB-135 airplanes and Model EMB-145, -145ER, -145MR, -145LR, -145XR, -145MP, and -145EP airplanes. That AD requires repetitive inspections of the spring cartridges of the elevator gust lock system to determine if the lock washer projection correctly fits the slots in the cartridge flange, and corrective action if necessary. That AD also provides for interim optional terminating action for the repetitive inspections for certain airplanes. That AD was prompted by reports of spring cartridges unscrewing in the electromechanical gust lock system. We issued that AD to prevent the elevator from jamming due to the spring cartridges unscrewing in the gust lock system, which could result in reduced controllability of the airplane.

Action Since Existing AD Was Issued

Since we issued AD 2003-09-03, the Departmento de Aviacao Civil (DAC), which is the airworthiness authority for Brazil, issued Brazilian airworthiness directive 2003-01-03R1, dated July 26, 2004, to mandate replacing the existing spring cartridges with improved spring cartridges having a new part number.

Relevant Service Information

EMBRAER has issued Service Bulletin 145LEG-27-0012, Revision 01, dated April 12, 2004 (for Model EMB-135BJ airplanes); and Service Bulletin 145-27-0102, Revision 02, dated January 20, 2005 (for Model EMB-135ER, -135KE, -135KL, -135LR, -145, -145ER, -145MR, -145LR, -145XR, -145MP, and -145EP airplanes). The service bulletins describe procedures for replacing the existing spring cartridges of the electromechanical elevator gust lock system with improved spring cartridges having a new part number, which would end the repetitive inspections of the spring cartridges. Accomplishing the actions specified in the service information is intended to adequately address the unsafe condition. The DAC mandated the service information and issued Brazilian airworthiness directive 2003-01-03R1, dated July 26, 2004, to ensure the continued airworthiness of these airplanes in Brazil.

Other Relevant Rulemaking

Accomplishing EMBRAER Service Bulletin 145-27-0102 eliminates the need to accomplish certain actions specified in EMBRAER Service Bulletins 145-27-0086, Revision 04, dated March 21, 2005; and 145-27-0075, Revision 08, dated March 3, 2005. Those service bulletins are specified in notice of proposed rulemaking 2002-NM-89-AD (69 FR 56735; September 22, 2004) as applicable to certain airplanes.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. We have examined the DAC's findings, evaluated all pertinent information, and determined that AD action is necessary for airplanes of this type design that are certificated for operation in the United States.

This proposed AD would supersede AD 2003-09-03. This proposed AD would retain certain requirements of the existing AD and would also add a procedure for replacing the existing spring cartridges with improved spring cartridges having a new part number, which would provide for final terminating action for the repetitive inspections.

Therefore, we are proposing this AD, which would require accomplishing the actions specified in the service information described previously.

Change to Existing AD

This proposed AD would retain certain requirements of AD 2003-09-03. Since AD 2003-09-03 was issued, the AD format has been revised, and certain paragraphs have been rearranged. As a result, the corresponding paragraph identifiers have changed in this proposed AD, as listed in the following table:

Revised Paragraph Identifiers
Requirement in AD 2003-09-03 | Corresponding requirement in this proposed AD
Paragraph (a) | paragraph (f).
Paragraph (b) | paragraph (g).

Costs of Compliance

This proposed AD would affect about 380 airplanes of U.S. registry. The average labor rate is estimated to be $65 per work hour.

The inspections required by AD 2003-09-03 that are retained in this proposed AD take about 1 work hour per airplane. Based on these figures, the estimated cost of the required inspections is $24,700, or $65 per airplane, per inspection cycle.

The new proposed actions would take about 3 work hours per airplane. Required parts would cost about $79 per cartridge (2 per airplane). Based on these figures, the estimated cost of the new actions specified in this proposed AD for U.S. operators is $134,140, or $353 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13132 (68 FR 22585, April 29, 2003), and adding the following new airworthiness directive (AD):

Empresa Brasileira de Aeronautica S.A. (EMBRAER): Docket No. FAA-2005-22033; Directorate Identifier 2004-NM-218-AD.

Comments Due Date

(a) The Federal Aviation Administration must receive comments on this AD action by September 7, 2005.

Affected ADs

(b)(1) This AD supersedes AD 2003-09-03, amendment 39-13132.

(2) Certain actions required by this AD are affected by FAA rulemaking docket number 2002-NM-89-AD (69 FR 56735, September 22, 2004).

Applicability: (c) This AD applies to EMBRAER Model EMB-135BJ, -135ER, -135KE, -135KL, -135LR, -145, -145ER, -145MR, and -145LR airplanes; certificated in any category; having spring cartridges part number KPD2611 installed in the elevator gust lock system.

Unsafe Condition

(d) This AD was prompted by reports of an improperly fitting lock washer causing the clevis of the spring cartridge in the electromechanical gust lock system to become unscrewed. We are proposing this AD to prevent unscrewing of the spring cartridge clevis from jamming the elevator, which could lead to reduced controllability of the airplane.

Compliance: (e) You are responsible for having the actions required by this AD performed within the compliance times specified, unless the actions have already been done.

Restatement of Requirements of AD 2003-09-03

Inspection

(f) For Model EMB-135BJ airplanes: Within 30 days after May 14, 2003 (the effective date of AD 2003-09-03), perform a general visual inspection of each spring cartridge of the elevator gust lock system to determine if the lock washer projection correctly fits the slots in the cartridge flange, in accordance with EMBRAER Service Bulletin 145LEG-27-0006, dated December 9, 2002. Before further flight, replace any discrepant spring cartridge with a new part having the same part number, in accordance with the service bulletin; or replace the spring cartridge, part number (P/N) KDP2611, with a new, improved spring cartridge, P/N KDP4235, as specified in paragraph (h) of this AD. After the effective date of this AD, only the replacement specified in paragraph (h) may be accomplished. Repeat the inspection at intervals not to exceed 800 flight hours until the replacement of the spring cartridge is accomplished as required by paragraph (h). Although the service bulletin recommends that operators report inspection results to EMBRAER, this AD does not require such a report.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(g) For airplanes not identified in paragraph (f) of this AD: At the applicable time specified in paragraph (g)(1) or (g)(2) of this AD, perform a general visual inspection of each spring cartridge of the elevator gust lock system to determine if the lock washer projection correctly fits the slots in the cartridge flange, in accordance with EMBRAER Service Bulletin 145-27-0098, dated December 9, 2002. Repeat the inspection at intervals not to exceed 800 flight hours after the initial inspection until the replacement of the spring cartridge, P/N KDP2611, with a new, improved spring cartridge, P/N KDP4235, is done as specified in paragraph (h) of this AD. Although the service bulletin recommends that operators report inspection results to EMBRAER, this AD does not require such a report.

(1) For airplanes equipped with an operational electromechanical gust lock system on the elevator: Inspect within 30 days after May 14, 2003, in accordance with PART I of the service bulletin. Before further flight, replace any discrepant spring cartridge with a new part having the same part number, in accordance with PART I of the service bulletin; or do the replacement specified in paragraph (h) of this AD. After the effective date of this AD, only the replacement specified in paragraph (h) may be accomplished.

(2) For airplanes that are not equipped with an operational electromechanical gust lock system on the elevator, but that are equipped with provisions for the system: Inspect within 60 days after May 14, 2003, in accordance with PART II of the service bulletin. Before further flight, replace any discrepant spring cartridge with a new part having the same part number, in accordance with PART II of the service bulletin; or do the replacement specified in paragraph (h) of this AD. After the effective date of this AD, only the replacement specified in paragraph (h) may be accomplished. Alternatively, removal of the spring cartridges terminates the repetitive inspection requirement of this AD during the time the cartridges are removed.

New Requirements of This AD

Replacement of Spring Cartridge

(h) Within 5,500 flight hours or 36 months after the effective date of this AD, whichever comes first, replace the spring cartridge, P/N KPD2611, with a new, improved spring cartridge, P/N KDP4235, in accordance with the Accomplishment Instructions of EMBRAER Service Bulletin 145LEG-27-0012, Revision 01, dated April 12, 2004 (for Model EMB-135BJ airplanes); or Service Bulletin 145-27-0102, Revision 02, dated January 20, 2005 (for Model EMB-135ER, -135KE, -135KL, -135LR, -145, -145ER, -145MR, -145LR, -145XR, -145MP, and -145EP airplanes); as applicable. Accomplishing this replacement terminates the repetitive inspections required by paragraphs (f) and (g) of this AD.

Parts Installation

(i) As of the effective date of this AD, no person may install a spring cartridge, P/N KPD2611, on any airplane.

Cartridge Replacement According to Previous Issue of Service Bulletin

(j) Spring cartridge replacements accomplished before the effective date of this AD in accordance with EMBRAER Service Bulletin 145LEG-27-0012, dated March 2, 2004; or Service Bulletin 145-27-0102, dated December 23, 2003, or Revision 01, dated April 12, 2004; are considered acceptable for compliance with the corresponding action required by this AD.

Alternative Methods of Compliance (AMOCs)

(k)(1) The Manager, International Branch, ANM-116, Transport Airplane Directorate, FAA, has the authority to approve AMOCs for this AD, if requested in accordance with the procedures found in 14 CFR 39.19.

(2) AMOCs approved previously according to AD 2003-09-03, amendment 39-13132, are approved as AMOCs for the corresponding provisions of this AD.

Related Information

(l) Brazilian airworthiness directive 2003-01-03R1, dated July 26, 2004, also addresses the subject of this AD.

Issued in Renton, Washington, on August 2, 2005.
Kevin Mullin,
Acting Manager, Transport Airplane Directorate, Aircraft Certification Service.

[FR Doc. 05-15592 Filed 8-5-05; 8:45 am]

BILLING CODE 4910-13-P